DEPARTMENT OF COMMERCE

National Oceanic and Atmospheric Administration

[RTID 0648-XF164]

Caribbean Fishery Management Council's District Advisory Panels; Public Virtual Meeting

AGENCY: National Marine Fisheries Service (NMFS), National Oceanic and Atmospheric Administration (NOAA), Commerce.

ACTION: Notice of public virtual meeting.

SUMMARY: The Caribbean Fishery Management Council's (Council) District Advisory Panels (DAPs) will hold a public virtual meeting to address the items contained in the tentative agenda included in the SUPPLEMENTARY INFORMATION.

DATES: The DAPs public virtual meeting will be held on September 26, 2025 from 9:00 a.m. (AST) to 4:00 p.m. (AST).

ADDRESSES: You may join the DAPs public virtual meeting (via Zoom) from a computer, tablet or smartphone by entering the following address:

Join Zoom Meeting: https://us02web.zoom.us/j/86823050928?pwd=y0Td2tebl2OwsBlMDE3uBlAYfJAYNu.1.

Meeting ID: 868 2305 0928.

Passcode: 704207.

In case there are problems, and we cannot reconnect via Zoom, the meeting will continue using GoToMeeting. You can join the meeting from your computer, tablet, or smartphone https://meet.goto.com/174603157. You can also dial in using your phone. United States: +1 (408) 650-3123 Access Code: 174-603-157.

FOR FURTHER INFORMATION CONTACT: Miguel Rolón, Executive Director, Caribbean Fishery Management Council, 270 Muñoz Rivera Avenue, Suite 401, San Juan, Puerto Rico 00918-1903, telephone: (787) 398-3717.

SUPPLEMENTARY INFORMATION: The items included in the tentative agenda are:

9 a.m.-9:15 a.m.

—Call to Order

—Roll Call

9:15 a.m.-9:45 a.m.

—E.O. 14276 and Memorandum from Mr. E. Piñeiro—Miguel A. Rolón

9:45 a.m.-10:45 a.m.

—Magnuson-Stevens Fisheries Conservation and Management Act Requirements for Stocks in Need of Conservation and Management, and Discussion of Modifications to the Reef Fish Fishery Management Units (FMUs)—Sarah Stephenson, NOAA Fisheries/SERO

10:45 a.m.-11 a.m.

—Break

11 a.m.-12 p.m.

—Species in the Management Units of the IBFMPs—Graciela García-Moliner

12 p.m.-1 p.m.

—Lunch Break

1 p.m.-2:30 p.m.

—DAPs Discussion

—St. Thomas/St. John—Julian Magras, Chair

—St. Croix—Gerson Martinez, Chair

—Puerto Rico—Nelson Crespo, Chair

2:30 p.m.-2:45 p.m.

—Break

2:45 p.m.-3:45 p.m.

—Discussion of Actions Proposed by CFMC 187th Meeting

3:45 p.m.-4 p.m.

—Other Business

—Adjourn

Other than the starting date and time, the order of business may be adjusted as necessary to accommodate the completion of agenda items, at the discretion of the Chair. The meeting will begin on September 26, 2025 at 9 a.m. AST, and will end on September 26, 2025, at 4 p.m. AST.

Special Accommodations

For simultaneous interpretation follow your Zoom screen instructions. You will be asked which language you prefer when you join the meeting. For any additional information on this public virtual meeting, please contact Diana Martino, Caribbean Fishery Management Council, 270 Muñoz Rivera Avenue, Suite 401, San Juan, Puerto Rico, 00918-1903, telephone: (787) 226-8849.

(Authority: 16 U.S.C. 1801 et seq.)

Dated: September 9, 2025.
Rey Israel Marquez,
Acting Deputy Director, Office of Sustainable Fisheries, National Marine Fisheries Service.

[FR Doc. 2025-17556 Filed 9-10-25; 8:45 am]

BILLING CODE 3510-22-P